DEPARTMENT OF TRANSPORTATION

Surface Transportation Board

[STB Finance Docket No. 34868]

Columbus and Greenville Railway Company—Trackage Rights Exemption—Kansas City Southern Railway Company

Pursuant to a trackage rights agreement dated March 3, 2006, between Columbus and Greenville Railway Company (CAGY) and Kansas City Southern Railway Company (KCSR), KCSR has agreed to grant CAGY nonexclusive overhead trackage rights over KCSR's Tuscaloosa Subdivision between milepost 3.5 west of Columbus, MS (near Artesia, MS), and milepost 15.2 at the connection with the BNSF Railway Company (BNSF) at Columbus, a total distance of approximately 11.7 miles.¹

¹ A redacted version of the trackage rights agreement between CAGY and KCSR was filed with the notice of exemption. The full version of the agreement, as required by 49 CFR 1180.6(a)(7)(ii), was concurrently filed under seal along with a motion for protective order. The request for a protective order is being addressed in a separate decision.

The transaction is scheduled to be consummated on or after February 11, 2007 (the effective date of the exemption). The purpose of the trackage rights is to enable CAGY to provide competitive rail service to a new steel mill being constructed by SeverCorr LLC, at the Lowndes County Industrial Mega Site.²

² Specifically, these rights provide CAGY direct access to handle rail traffic between the site of SeverCorr LLC, located in the Lowndes County Industrial Mega Site, at milepost 4.0 near Columbus, on the one hand, and, on the other hand (1) the Lowndes County Port at milepost 13.4, (2) the BNSF connection near milepost 15.2, (3) points on CAGY's lines, and (4) interchange points with other carriers located on CAGY lines in or east of Columbus, as they existed on October 5, 2005.

As a condition to this exemption, any employee affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction. Stay petitions must be filed by February 2, 2007 (at least 7 days before the exemption becomes effective).

An original and 10 copies of all pleadings, referring to STB Finance Docket No. 34868, must be filed with the Surface Transportation Board, 1925 K Street, NW., Washington, DC 20423-0001. In addition, one copy of each pleading must be served on John D. Heffner, John D. Heffner, PLLC, 1920 N Street, NW., Suite 800, Washington, DC 20036.

Board decisions and notices are available on our Web site at “http://www.stb.dot.gov.”

Decided: January 22, 2007.
By the Board, David M. Konschnik, Director, Office of Proceedings.
Vernon A. Williams,
Secretary.

[FR Doc. E7-1254 Filed 1-25-07; 8:45 am]

BILLING CODE 4915-01-P